DEPARTMENT OF TRANSPORTATION

Office of the Secretary

Notice of Applications for Certificates of Public Convenience and Necessity and Foreign Air Carrier Permits Filed Under Subpart B (Formerly Subpart Q) During the Week Ending September 17, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0172.

Date Filed: September 13, 2011.

Due Date for Answers, Conforming Applications, or Motion to Modify Scope: October 4, 2011.

Description: Application of Nordic Global Airlines Oy d/b/a Nordic Global Airlines Ltd (“NGA”) requesting a foreign air carrier permit to the full extent authorized by the Air Transport Agreement between the United States and the European Community and the Member States of the European Community to enable it to engage in foreign air transportation of property and mail between any point or points in the United States and any point or points outside the United States, and any other transportation authorized by additional rights made available to European Community carriers in the future. NGA further requests exemption authority to enable it to provide the services described above pending issuance of a foreign air carrier permit, and requests such additional or other relief as the Department may deem necessary or appropriate.

Docket Number: DOT-OST-2011-0174.

Date Filed: September 15, 2011.

Due Date for Answers, Conforming Applications, or Motion to Modify Scope: October 6, 2011.

Description: Application of JetBlue Airways Corporation (“JetBlue”) requesting a certificate of public convenience and necessity and requests the Department to designate JetBlue to the Colombian government authorizing JetBlue to engage in foreign scheduled air transportation of persons, property and mail between Fort Lauderdale, Florida and Bogota, Colombia, utilizing 7 frequencies per week commencing on or about January 15, 2012.

Renee V. Wright,
Program Manager, Docket Operations, Federal Register Liaison.

[FR Doc. 2011-28493 Filed 11-2-11; 8:45 am]

BILLING CODE 4910-9X-P